DEPARTMENT OF ENERGY

Federal Energy Regulatory Commission

Combined Notice of Filings #1

Take notice that the Commission received the following exempt wholesale generator filings:

Docket Numbers: EG26-144-000.

Applicants: Atlas Solar II, LLC.

Description: Atlas Solar II, LLC submits Notice of Self-Certification of Exempt Wholesale Generator Status.

Filed Date: 1/29/26.

Accession Number: 20260129-5416.

Comment Date: 5 p.m. ET 2/19/26.

Docket Numbers: EG26-145-000.

Applicants: 311SV 8me LLC.

Description: 311SV 8me LLC submits Notice of Self-Certification of Exempt Wholesale Generator Status.

Filed Date: 1/29/26.

Accession Number: 20260129-5432.

Comment Date: 5 p.m. ET 2/19/26.

Docket Numbers: EG26-146-000.

Applicants: Little Ashdown Solar, LLC.

Description: Little Ashdown Solar, LLC submits Notice of Self-Certification of Exempt Wholesale Generator Status.

Filed Date: 1/30/26.

Accession Number: 20260130-5110.

Comment Date: 5 p.m. ET 2/20/26.

Take notice that the Commission received the following electric rate filings:

Docket Numbers: ER10-1781-013; ER22-381-021; ER21-2715-010; ER25-1272-002; ER21-714-016; ER22-399-011; ER19-2626-015.

Applicants: Rosewater Wind Farm LLC, Meadow Lake Solar Park LLC, Indiana Crossroads Wind Farm LLC, Gibson Solar, LLC, Fairbanks Solar Energy Center LLC, Dunns Bridge Solar Center, LLC, Northern Indiana Public Service Company.

Description: Notice of Non-Material Change in Status of Northern Indiana Public Service Company, et al.

Filed Date: 1/29/26.

Accession Number: 20260129-5460.

Comment Date: 5 p.m. ET 2/19/26.

Docket Numbers: R25-1234-003.

Applicants: Algonquin Power Sanger LLC.

Description: Compliance filing: Clearlight Energy Sanger LLC submits tariff filing per 35: Compliance Filing to be effective 1/8/2025.

Filed Date: 1/29/26.

Accession Number: 20260129-5456.

Comment Date: 5 p.m. ET 2/19/26.

Docket Numbers: ER25-1235-003.

Applicants: Algonquin SKIC 10 Solar, LLC.

Description: Compliance filing: Clearlight Energy SKIC 10 Solar, LLC submits tariff filing per 35: Compliance Filing to be effective 1/8/2025.

Filed Date: 1/29/26.

Accession Number: 20260129-5461.

Comment Date: 5 p.m. ET 2/19/26.

Docket Numbers: ER25-1237-003.

Applicants: Algonquin SKIC 20 Solar, LLC.

Description: Compliance filing: Clearlight Energy SKIC 20 Solar, LLC submits tariff filing per 35: Compliance Filing to be effective 1/8/2025.

Filed Date: 1/29/26.

Accession Number: 20260129-5465.

Comment Date: 5 p.m. ET 2/19/26.

Docket Numbers: ER25-2818-001.

Applicants: Adelite Solar, LLC.

Description: Supplement to 11/18/2025, Notice of Non-Material Change in Status of Adelite Solar, LLC.

Filed Date: 1/27/26.

Accession Number: 20260127-5304.

Comment Date: 5 p.m. ET 2/17/26.

Docket Numbers: ER25-2819-001.

Applicants: Ruby Solar, LLC.

Description: Supplement to 11/18/2025, Notice of Non-Material Change in Status of Ruby Solar, LLC.

Filed Date: 1/27/26.

Accession Number: 20260127-5305.

Comment Date: 5 p.m. ET 2/17/26.

Docket Numbers: ER25-3475-003.

Applicants: Branch Solar, LLC.

Description: Compliance filing: Branch Solar Change in Status to be effective 1/30/2026.

Filed Date: 1/29/26.

Accession Number: 20260129-5450.

Comment Date: 5 p.m. ET 2/19/26.

Docket Numbers: ER26-1172-000.

Applicants: Tri-State Generation and Transmission Association, Inc.

Description: 205(d) Rate Filing: Notice of Cancellation of Rate Schedule FERC No. 409, 410, and 411 to be effective 1/21/2026.

Filed Date: 1/29/26.

Accession Number: 20260129-5481.

Comment Date: 5 p.m. ET 2/19/26.

Docket Numbers: ER26-1173-000.

Applicants: Northern States Power Company, a Minnesota corporation.

Description: 205(d) Rate Filing: 2026-01-29 CONUX-SISA-781-0.0.0 to be effective 1/30/2026.

Filed Date: 1/29/26.

Accession Number: 20260129-5487.

Comment Date: 5 p.m. ET 2/19/26.

Docket Numbers: ER26-1174-000.

Applicants: Northern States Power Company, a Minnesota corporation.

Description: 205(d) Rate Filing: 2026-01-29 GRE-Nobles-SISA-782-0.0.0 to be effective 1/30/2026.

Filed Date: 1/29/26.

Accession Number: 20260129-5490.

Comment Date: 5 p.m. ET 2/19/26.

Docket Numbers: ER26-1175-000.

Applicants: Northern States Power Company, a Minnesota corporation.

Description: 205(d) Rate Filing: 2026-01-29 MMPA-Chaska West Creek-778-0.0.0 to be effective 1/30/2026.

Filed Date: 1/29/26.

Accession Number: 20260129-5496.

Comment Date: 5 p.m. ET 2/19/26.

Docket Numbers: ER26-1176-000

Applicants: Pacific Gas and Electric Company.

Description: 205(d) Rate Filing: TO: Revisions—EDAM access charge to be effective 4/1/2026.

Filed Date: 1/30/26.

Accession Number: 20260130-5003.

Comment Date: 5 p.m. ET 2/20/26.

Docket Numbers: ER26-1177-000.

Applicants: Southwest Power Pool, Inc.

Description: 205(d) Rate Filing: 4607 Pryor Quarry GIA to be effective 1/20/2026.

Filed Date: 1/30/26.

Accession Number: 20260130-5024.

Comment Date: 5 p.m. ET 2/20/26.

Docket Numbers: ER26-1178-000.

Applicants: Ohio Power Company.

Description: 205(d) Rate Filing: AEPSC submits an update to Attachment 1 of the ILDSA—SA No. 1336 to be effective 1/1/2026.

Filed Date: 1/30/26.

Accession Number: 20260130-5025.

Comment Date: 5 p.m. ET 2/20/26.

Docket Numbers: ER26-1179-000.

Applicants: Tampa Electric Company.

Description: 205(d) Rate Filing: Ministerial Filing (Administrative)—Order No. 881 to be effective 4/1/2026.

Filed Date: 1/30/26.

Accession Number: 20260130-5086.

Comment Date: 5 p.m. ET 2/20/26.

The filings are accessible in the Commission's eLibrary system (https://elibrary.ferc.gov/idmws/search/fercgensearch.asp) by querying the docket number. Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding. eFiling is encouraged. More detailed information relating to filing requirements, interventions, protests, service, and qualifying facilities filings can be found at: http://www.ferc.gov/docs-filing/efiling/filing-req.pdf. For other information, call (866) 208-3676 (toll free). For TTY, call (202) 502-8659.

For public inquiries and assistance with making filings such as interventions, comments, or requests for rehearing, the public is encouraged to contact OPP at (202) 502-6595 or OPP@ferc.gov.

Dated: January 30, 2026.
Debbie-Anne A. Reese,
Secretary.

[FR Doc. 2026-02412 Filed 2-5-26; 8:45 am]

BILLING CODE 6717-01-P